FEDERAL COMMUNICATIONS COMMISSION

47 CFR Part 73

[MB Docket No. 20-155, RM-11856; DA 20-1522; FRS 17360]

Radio Broadcasting Services; Edgefield, South Carolina

AGENCY: Federal Communications Commission.

ACTION: Final rule.

SUMMARY: At the request of Georgia-Carolina Radiocasting Company, LLC, the Audio Division amends the FM Table of Allotments, by Channel 238A at Edgefield, South Carolina, as a first local service. A staff engineering analysis indicates that Channel 238A can be allotted to Edgefield, South Carolina, consistent with the minimum distance separation requirements of the Commission's rules, using city reference coordinates. The reference coordinates are 33-48-53 NL 81-56-10 WL.

DATES: Effective February 24, 2021.

FOR FURTHER INFORMATION CONTACT: Rolanda F. Smith, Media Bureau, (202) 418-2700.

SUPPLEMENTARY INFORMATION: This is a synopsis of the Commission's Report and Order, MB Docket No. 20-155, adopted December 21, 2020, and released December 23, 2020. The full text of this Commission decision is available online at http://apps.fcc.gov/ecfs/. This document does not contain information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

Editorial note: This document was received for publication at the Office of the Federal Register on January 4, 2021.

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202, the table in paragraph (b) is amended under South Carolina by adding an entry for “Edgefield” to read as follows:

§ 73.202 Table of Allotments.

* * * * *

(b) * * *

Table 1 to Paragraph (b)
[U.S. States]
| Channel No.
* * * * *
South Carolina
Edgefield | 238A
* * * * *

[FR Doc. 2021-00081 Filed 2-23-21; 8:45 am]

BILLING CODE 6712-01-P